DEPARTMENT OF DEFENSE

Office of the Secretary

Reserve Forces Policy Board; Notice of Federal Advisory Committee Meeting

AGENCY: Under Secretary of Defense for Personnel and Readiness, Department of Defense.

ACTION: Notice of Federal Advisory Committee meeting.

SUMMARY: The Department of Defense (DoD) is publishing this notice to announce that the following Federal Advisory Committee meeting of the Reserve Forces Policy Board will take place.

DATES: Open to the public Wednesday, September 13, 2017 from 9:25 a.m. to 4:15 p.m.

ADDRESSES: The address for the Open Session of the meeting is the Army Navy Country Club, 1700 Army Navy Drive, Arlington, VA 22202.

FOR FURTHER INFORMATION CONTACT: Alexander Sabol, (703) 681-0577 (Voice), 703-681-0002 (Facsimile), Alexander.J.Sabol.Civ@Mail.Mil (Email). Mailing address is Reserve Forces Policy Board, 5113 Leesburg Pike, Suite 601, Falls Church, VA 22041. Web site: http://rfpb.defense.gov/. The most up-to-date changes to the meeting agenda can be found on the Web site.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the meeting is to obtain, review and evaluate information related to strategies, policies, and practices designed to improve and enhance the capabilities, efficiency, and effectiveness of the Reserve Components. The Department of Defense (DoD) is publishing this notice to announce that the following Federal Advisory Committee meeting of the Reserve Forces Policy Board will take place.

Agenda: The RFPB will hold an open meeting to the public Wednesday, September 13, 2017 from 9:25 a.m. to 4:15 p.m. The meeting will focus on discussions with the Editor at US Army War College Quarterly who will discuss an Army War College integrated research project entitled “Great Power War” that addressed the issue of full mobilization for the Army; the Director of Training, Office of the Deputy Chief of Staff in the Army G-3/5/7 who will discuss the Army Sustainable Readiness Model as it pertains to the Army's process for training, mobilizing, and deploying its Reserve Component units as an element of an operational Reserve Force; the National Chair, Employer Support of the Guard and Reserve (ESGR) who will discuss the ESGR's mission of facilitating and promoting a cooperative culture of employer support for National Guard and Reserve services; the Director of Manpower Legislation and Systems, DASD Military Personnel Policy, who will provide the progress on the Department of Defense's Duty Status Reform efforts; the Director of Military Compensation Policy, DASD Military Personnel Policy, who will discuss the General and Flag Officer Requirements Working Group, the Report to Congress on the feasibility and advisability of converting Military Technician positions, and other critical Reserve Component related provisions of the 2017 National Defense Authorization Act; and a Reserve Component Senior Enlisted Advisor Panel that will discuss their priorities and views regarding the readiness of their respective component's challenges for the “Operational Reserve” as part of the Total Force.

Meeting Accessibility: Pursuant to 5 U.S.C. 552b, as amended and 41 CFR 102-3.140 through 102-3.165, and subject to the availability of space, the meeting is open to the public from 9:25 a.m. to 4:15 p.m. Seating is based on a first-come, first-served basis. All members of the public who wish to attend the public meeting must contact Mr. Alex Sabol, the Designated Federal Officer, not later than 12:00 p.m. on Tuesday, September 12, 2017, as listed in the FOR FURTHER INFORMATION CONTACT section.

Written Statements: Pursuant to 41 CFR 102-3.105(j) and 102-3.140 and section 10(a)(3) of the FACA, interested persons may submit written statements to the RFPB at any time about its approved agenda or at any time on the Board's mission. Written statements should be submitted to the RFPB's Designated Federal Officer at the address or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the committee members before the meeting that is the subject of this notice. Please note that since the RFPB operates under the provisions of the FACA, all submitted comments and public presentations will be treated as public documents and will be made available for public inspection, including, but not limited to, being posted on the RFPB's Web site.

Dated: August 16, 2017.
Aaron Siegel,
Alternate OSD Federal Register Liaison Officer, Department of Defense.

[FR Doc. 2017-17653 Filed 8-21-17; 8:45 am]

BILLING CODE 5001-06-P